DEPARTMENT OF TRANSPORTATION

Federal Aviation Administration

14 CFR Part 39

[Docket No. FAA-2013-0828; Directorate Identifier 2012-NM-036-AD]

RIN 2120-AA64

Airworthiness Directives; Airbus Airplanes

AGENCY: Federal Aviation Administration (FAA), DOT.

ACTION: Supplemental notice of proposed rulemaking (NPRM); reopening of comment period.

SUMMARY: We are revising an earlier proposed airworthiness directive (AD) for certain Airbus Model A330-200 and -300 series airplanes; and Model A340-200 and -300 series airplanes. The NPRM proposed to supersede AD 2009-15-17 to continue to require inspections for damage to the protective treatments or any corrosion of all main landing gear (MLG) bogie beams, application of protective treatments, and corrective action if necessary. The NPRM also proposed to require modification of the MLG bogie beams, to allow optional methods of compliance for certain actions, and to add airplanes to the applicability. The first supplemental notice of proposed rulemaking (SNPRM) proposed to revise the compliance times and add a one-time inspection for certain airplanes. The NPRM was prompted by reports of thin paint coats and paint degradation on enhanced MLG bogie beams. This second SNPRM proposes to clarify the required actions and the specific configurations to which the actions must be applied. We are proposing this second SNPRM to detect and correct damage or corrosion of the MLG bogie beams, which could cause a runway excursion event, bogie beam detachment from the airplane, or MLG collapse, and could result in damage to the airplane and injury to the occupants. Since these actions impose an additional burden over those proposed in the first SNPRM, we are reopening the comment period to allow the public the chance to comment on these proposed changes.

DATES: We must receive comments on this SNPRM by March 21, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For Airbus service information identified in this NPRM, contact Airbus SAS, Airworthiness Office—EAL, 1 Rond Point Maurice Bellonte, 31707 Blagnac Cedex, France; telephone: +33 5 61 93 36 96; fax: +33 5 61 93 45 80; email: airworthiness.A330-A340@airbus.com; Internet: http://www.airbus.com.

For Messier-Dowty service information identified in this NPRM, contact Messier-Dowty: Messier Services Americas, Customer Support Center, 45360 Severn Way, Sterling, VA 20166-8910; telephone 703-450-8233; fax 703-404-1621; Internet: https://techpubs.services/messier-dowty.com.

You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2013-0828; or in person at the Docket Management Facility between 9 a.m. and 5 p.m., Monday through Friday, except Federal holidays. The AD docket contains this proposed AD, the regulatory evaluation, any comments received, and other information. The street address for the Docket Office (telephone: 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone: 425-227-1138; fax: 425-227-1149.

SUPPLEMENTARY INFORMATION:

Comments Invited

We invite you to send any written relevant data, views, or arguments about this proposed AD. Send your comments to an address listed under the ADDRESSES section. Include “Docket No. FAA-2013-0828; Directorate Identifier 2012-NM-036-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We issued an SNPRM to amend 14 CFR part 39 by adding an AD that would apply to certain Airbus Model A330-200 Freighter series airplanes, Model A330-200 and A330-300 series airplanes, and Model A340-200 and A340-300 series airplanes. The SNPRM published in the Federal Register on March 5, 2014 (79 FR 12414).

We preceded the SNPRM with a notice of proposed rulemaking (NPRM) that published in the Federal Register on September 25, 2013 (78 FR 58978). The NPRM was prompted by reports of thin paint coats and paint degradation on enhanced MLG bogie beams. The NPRM proposed to supersede AD 2009-15-17, Amendment 39-15980 (74 FR 37523, July 29, 2009), to continue to require inspections for damage to the protective treatments or any corrosion of all MLG bogie beams, application of protective treatments, and corrective action if necessary. The NPRM also proposed to require modification of the MLG bogie beams, which would terminate the repetitive inspections for any modified bogie beam. In addition, the NPRM proposed to allow optional methods of compliance for certain actions, and to add Airbus Model A330-200 Freighter series airplanes to the applicability.

The SNPRM (79 FR 12414, March 5, 2014) (“the first SNPRM”) proposed to revise the compliance times and add a one-time inspection for airplanes that were inspected too early.

Actions Since the First SNPRM Was Issued

Since we issued the first SNPRM, we have determined that it is necessary to clarify the required actions and the specific configurations to which the actions must be applied. The European Aviation Safety Agency (EASA), which is the Technical Agent for the Member States of the European Union, has issued EASA AD 2013-0267R1, dated March 4, 2014, Corrected May 8, 2014 (referred to after this as the Mandatory Continuing Airworthiness Information, or “the MCAI”), to correct an unsafe condition on certain Airbus Model A330-200 Freighter, -200, and -300 series airplanes; and Model A340-200 and -300 series airplanes. The MCAI states:

The operator of an A330 aeroplane (which has a common bogie beam with the A340) reported a fracture of the Right Hand (RH) main landing gear (MLG) bogie beam, which occurred while turning during low speed taxi maneuvers. The bogie fractured aft of the pivot point and remained attached to the sliding tube by the brake torque reaction rods. After this RH bogie failure, the aeroplane continued for approximately 40 meters on the forks of the sliding member before coming to rest on the taxiway.

The investigations revealed that this event was due to corrosion pitting occurring on the bore of the bogie beam.

This condition, if not detected and corrected, could lead to a runway excursion event or to detachment of the bogie from the aeroplane, or to MLG collapse, possibly resulting in damage to the aeroplane and injury to the occupants.

To enable early detection and repair of corrosion of the internal surfaces, EASA issued EASA AD 2007-0314 [http://ad.easa.europa.eu/ad/2007-0314R1] to require a one-time inspection of all MLG bogie beams, except Enhanced MLG bogie beams, and the reporting of the results to Airbus. EASA AD 2007-0314 was revised and later superseded by EASA AD 2008-0093 [http://ad.easa.europa.eu/ad/2008-0093], reducing the inspection threshold period.

The results of subsequent investigations showed thin paint coats and paint degradation, confirmed as well on Enhanced MLG bogie beams. To address this additional concern, EASA issued AD 2011-0141 [http://ad.easa.europa.eu/ad/2011-0141] [which was not mandated by the FAA], retaining the requirements of EASA AD 2008-0093, which was superseded, to require a one-time visual inspection of all MLG bogie beams, including a visual examination of the internal diameter for corrosion or damage to protective treatments of the bogie beam and measurement of the paint thickness on the internal bore, accomplishment of the applicable corrective actions and a modification of the MLG bogie beam to improve the coat paint application method, and application of corrosion protection.

Prompted by in-service requests, EASA issued EASA AD 2012-0015 [http://ad.easa.europa.eu/ad/2012-0015] [corresponds with FAA NPRM (78 FR 58978, September 25, 2013)] retaining the requirements of EASA AD 2011-0141, which was superseded, and introducing repetitive inspections of the MLG bogie beams, which allows extension of the compliance time for the MLG bogie beam modification from 15 years to 21 years. Modification of a MLG bogie beam constitutes terminating action for the repetitive inspections for that MLG bogie beam.

Reports on inspection results provided to Airbus show that some aeroplanes were initially inspected too early (before 4 years and 6 months since aeroplane first flight with bogie beam installed/installed after overhaul) and have not been re-inspected as required.

For the reasons described above, this [EASA] AD retains the requirements of EASA AD 2012-0015, which is superseded, and redefines the inspection periodicity. This [EASA] AD also introduces a specific one-time inspection for aeroplanes that have been inspected too early.

Prompted by operator comments, this [EASA] AD is revised to clarify the required actions and the specific configurations to which the actions must be applied. Appendix 1 of this [EASA] AD has been amended accordingly.

This [EASA] AD is republished to editorially correct paragraph (4).

You may examine the MCAI in the AD docket on the Internet at http://www.regulations.gov by searching for and locating Docket No. FAA-2013-0828.

Related Service Information Under 1 CFR Part 51

We reviewed the following Airbus service information.

• Airbus Mandatory Service Bulletin A330-32-3225, Revision 2, dated October 26, 2012. The service information describes procedures for cleaning the internal bore and accomplishing a detailed inspection of internal surfaces of the left hand (LH) and right hand (RH) MLG bogie beams to detect any damage to the protective treatments and any corrosion, and measuring the paint thickness on the internal bore.

• Airbus Mandatory Service Bulletin A330-32-3237, Revision 1, dated October 14, 2011. The service information describes procedures for a detailed inspection for damage and corrosion of the internal bores of the LH and RH MLG bogie beam and repair, as well as modification and re-identification.

• Airbus Mandatory Service Bulletin A340-32-4268, Revision 3, dated January 14, 2013. The service information describes procedures for cleaning the internal bore and accomplishing a detailed inspection of internal surfaces of the LH and RH MLG bogie beams to detect any damage to the protective treatments and any corrosion, and measuring the paint thickness on the internal bore.

• Airbus Mandatory Service Bulletin A340-32-4279, Revision 1, dated October 14, 2011. The service information describes procedures for a detailed inspection for damage and corrosion of the internal bores of the LH and RH MLG bogie beam, repair, modification, and reidentification.

We reviewed the following Messier-Dowty service bulletins.

• Messier-Dowty Service Bulletin A33/34-32-271, Revision 1, dated November 16, 2007. The service information describes procedures for inspections and corrective actions on both MLG bogie beams.

• Messier-Dowty Service Bulletin A33/34-32-272, Revision 1, including Appendixes A, B, C, and D, dated September 22, 2008. The service information describes procedures for inspections and corrective actions on both MLG bogie beams.

• Messier-Dowty Service Bulletin A33/34-32-278, including Appendixes A and B, Revision 1, dated August 24, 2011. The service information describes procedures for inspections for damage and corrosion to the protective treatment of the internal bores of the LH and RH MLG bogie beam, and repairs.

• Messier-Dowty Service Bulletin A33/34-32-283, including Appendix A, Revision 1, dated July 10, 2012. The service information describes procedures for modification of the LH and RH MLG bogie beams.

• Messier-Dowty Service Bulletin A33/34-32-284, including Appendix A, Revision 1, dated July 10, 2012. The service information describes procedures for modification of the LH and RH MLG bogie beams.

This service information is reasonably available because the interested parties have access to it through their normal course of business or by the means identified in the ADDRESSES section.

Change to the First SNPRM

Since the first SNPRM was issued, the AD format has been revised, and certain paragraphs have been rearranged. As a result, paragraphs (m)(1) and (m)(2) of the proposed AD (in the first SNPRM) have been redesignated as paragraphs (n)(1) and (n)(2) of this proposed AD.

Comments

We gave the public the opportunity to participate in developing this proposed AD. We considered the comment received.

Request To Revise Paragraph (l) of the Proposed AD (in the First SNPRM)

Air France requested that we revise paragraph (l) of the proposed AD (in the first SNPRM) by changing the references to paragraphs (n)(1) and (n)(2) to refer to paragraphs (m)(1) and (m)(2).

We agree that the optional terminating action paragraph should refer to the optional methods of compliance paragraphs, which are paragraphs (m)(1) and (m)(2) of the proposed AD (in the first SNPRM). However, no change to this proposed AD is necessary because those paragraphs have been redesignated as paragraphs (n)(1) and (n)(2).

FAA's Determination and Requirements of This SNPRM

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Certain changes described above expand the scope of the first SNPRM. As a result, we have determined that it is necessary to reopen the comment period to provide additional opportunity for the public to comment on this SNPRM.

Differences Between This SNPRM and the MCAI or Service Information

The MCAI specifies repair and corrective actions in accordance with Airbus Mandatory Service Bulletin A330-32-3225, Revision 02, dated October 26, 2012; or A340-32-4268, Revision 03, dated January 14, 2013. However, Airbus Mandatory Service Bulletins A330-32-3225, Revision 02, dated October 26, 2012; and A340-32-4268, Revision 03, dated January 14, 2013; do not describe repair and corrective actions. Paragraphs (i) and (j) of this proposed AD specify repair and corrective actions in accordance with Messier-Dowty Service Bulletin A33/34-32-272, Revision 1, including Appendices A, B, C, and D, dated September 22, 2008. This difference has been coordinated with Airbus.

Costs of Compliance

We estimate that this proposed AD affects 51 airplanes of U.S. registry.

We also estimate that it would take about 34 work-hours per product to comply with the new basic requirements of this proposed AD, and 1 work-hour per product for reporting. The average labor rate is $85 per work-hour. Based on these figures, we estimate the cost of this proposed AD on U.S. operators to be $151,725, or $2,975 per product.

In addition, we estimate that any necessary follow-on actions would take about 10 work-hours, for a cost of $850 per product. We have no way of determining the number of aircraft that might need these actions.

Paperwork Reduction Act

A federal agency may not conduct or sponsor, and a person is not required to respond to, nor shall a person be subject to penalty for failure to comply with a collection of information subject to the requirements of the Paperwork Reduction Act unless that collection of information displays a current valid OMB control number. The control number for the collection of information required by this proposed AD is 2120-0056. The paperwork cost associated with this proposed AD has been detailed in the Costs of Compliance section of this document and includes time for reviewing instructions, as well as completing and reviewing the collection of information. Therefore, all reporting associated with this proposed AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2009-15-17, Amendment 39-15980 (74 FR 37523, July 29, 2009), and adding the following new AD:

Airbus: Docket No. FAA-2013-0828; Directorate Identifier 2012-NM-036-AD.

(a) Comments Due Date

We must receive comments by March 21, 2016.

(b) Affected ADs

This AD replaces AD 2009-15-17, Amendment 39-15980 (74 FR 37523, July 29, 2009).

(c) Applicability

This AD applies to the airplanes identified in paragraphs (c)(1) and (c)(2) of this AD, certificated in any category, all manufacturer serial numbers (MSN), except those on which Airbus modification 58896 has been embodied in production.

(1) Airbus Model A330-223F, -243F, -201, -202, -203, -223, -243, -301, -302, -303, -321, -322, -323, -341, -342, and -343 airplanes.

(2) Airbus Model A340-211, -212, -213, -311, -312, and -313 airplanes.

(d) Subject

Air Transport Association (ATA) of America Code 32, Landing gear.

(e) Reason

This AD was prompted by reports of thin paint coats and paint degradation on enhanced main landing gear (MLG) bogie beams, as well as reports that some airplanes have been inspected too early and not re-inspected as needed. We are issuing this AD to detect and correct damage or corrosion of the MLG bogie beams, which could cause a runway excursion event, bogie beam detachment from the airplane, or MLG collapse, and could result in damage to the airplane and injury to the occupants.

(f) Compliance

Comply with this AD within the compliance times specified, unless already done.

(g) Repetitive Inspections for Certain Airplane Configurations

For airplanes equipped with basic MLG (201252 series), or growth MLG (201490 series): After 54 months at the earliest, but no later than 72 months since the left-hand (LH) or right-hand (RH) MLG bogie beam's first flight on an airplane, or since its first flight on an airplane after overhaul, as applicable, clean the internal bore and accomplish a detailed inspection of internal surfaces of the LH and RH MLG bogie beams to detect any damage to the protective treatments and any corrosion, and measure the paint thickness on the internal bore, in accordance with the Accomplishment Instructions of Airbus Mandatory Service Bulletin A330-32-3225, Revision 2, dated October 26, 2012; or Airbus Mandatory Service Bulletin A340-32-4268, Revision 3, dated January 14, 2013; as applicable. Repeat the inspections thereafter at intervals not less than 54 months, but not exceeding 72 months, after the most recent inspection. During overhaul of a MLG bogie beam, any corrosion will be removed, which means that the first inspection after overhaul of that MLG bogie beam, as required by this paragraph, is between 54 months and 72 months since its first flight on an airplane after overhaul.

(h) One-Time Detailed Inspection for Certain Airplane Configurations

For airplanes equipped with basic MLG (201252 series), or growth MLG (201490 series) having a LH or RH MLG bogie beam that has already exceeded 72 months since its first flight on an airplane, or since its first flight on an airplane after overhaul, as applicable, as of the effective date of this AD; and that has been inspected as specified in Airbus Mandatory Service Bulletin A330-32-3225 or Airbus Mandatory Service Bulletin A340-32-4268, as applicable, earlier than 54 months since first flight of the affected MLG bogie beam on an airplane, or since its first flight on an airplane after its most recent overhaul, as applicable: Within the applicable compliance time indicated in paragraphs (h)(1) through (h)(4) of this AD, clean the internal bore and accomplish a detailed inspection of the internal surfaces of the LH and RH MLG bogie beams to detect any damage to the protective treatments and any corrosion, and measure the paint thickness on the internal bore, in accordance with the Accomplishment Instructions of Airbus Mandatory Service Bulletin A330-32-3225, Revision 2, dated October 26, 2012; or Airbus Mandatory Service Bulletin A340-32-4268, Revision 3, dated January 14, 2013; as applicable.

(1) For MLG bogie beams having the configurations specified in both paragraphs (h)(1)(i) and (h)(1)(ii) of this AD: Do the detailed inspection specified in paragraph (h) of this AD within 9 months after the effective date of this AD.

(i) MLG bogie beams having between 72 and 120 months since first flight on an airplane, or since the MLG bogie beam's first flight on an airplane after the MLG bogie beam's most recent overhaul, as applicable.

(ii) MLG bogie beams on which the first inspection was done after 51 months and before 54 months since first flight of the MLG bogie beam on an airplane, or since the MLG bogie beam's first flight on an airplane after the MLG bogie beam's most recent overhaul, as applicable.

(2) For MLG bogie beams having the configurations specified in both paragraphs (h)(2)(i) and (h)(2)(ii) of this AD: Do the detailed inspection specified in paragraph (h) of this AD within 3 months after the effective date of this AD.

(i) MLG bogie beams having between 72 and 120 months since first flight on an airplane, or since the MLG bogie beam's first flight on an airplane after the MLG bogie beam's most recent overhaul, as applicable.

(ii) MLG bogie beams on which the first inspection was done after 45 months and before 51 months since first flight of the MLG bogie beam on an airplane, or since the MLG bogie beam's first flight on an airplane after the MLG bogie beam's most recent overhaul, as applicable.

(3) For MLG bogie beams having the configurations specified in both paragraphs (h)(3)(i) and (h)(3)(ii) of this AD: Do the detailed inspection specified in paragraph (h) of this AD within 3 months after the effective date of this AD.

(i) MLG bogie beams having between 72 and 96 months since first flight on an airplane, or since the MLG bogie beam's first flight on an airplane after the MLG bogie beam's most recent overhaul, as applicable.

(ii) MLG bogie beams which has accumulated, at the effective date of this AD, less than 96 months and on which the first inspection was done before 51 months since first flight of the MLG bogie beam on an airplane, or since the MLG bogie beam's first flight on an airplane after the after the MLG bogie beam's most recent overhaul, as applicable.

(4) For MLG bogie beams having the configurations specified in both paragraphs (h)(4)(i) and (h)(4)(ii) of this AD: Do the detailed inspection specified in paragraph (h) of this AD within 1 month after the effective date of this AD.

(i) MLG bogie beams having between 96 and 120 months since first flight on an airplane, or since the MLG bogie beam's first flight on an airplane after the MLG bogie beam's most recent overhaul, as applicable.

(ii) MLG bogie beams which has accumulated, at the effective date of this AD, 96 months or more and on which the first inspection was done before 45 months since first flight of the MLG bogie beam on an airplane, or since the MLG bogie beam's first flight on an airplane after the MLG bogie beam's most recent overhaul, as applicable.

(i) Application of Protective Treatment

If, during any inspection required by paragraph (g) or (h) of this AD, no damage or corrosion is found, before further flight, apply the protective treatments to the MLG bogie beam, in accordance with the Accomplishment Instructions of Messier-Dowty Service Bulletin A33/34-32-272, Revision 1, including Appendixes A, B, C, and D, dated September 22, 2008.

(j) Repair and Application of Protective Treatment

If, during any inspection required by paragraph (g) or (h) of this AD, any damage or corrosion is found, before further flight, repair and apply the protective treatments to the MLG bogie beam, in accordance with the Accomplishment Instructions of Messier-Dowty Service Bulletin A33/34-32-272, Revision 1, including Appendixes A, B, C, and D, dated September 22, 2008.

(k) Inspection and Corrective Actions

For airplanes equipped with basic MLG (201252 series), growth MLG (201490 series), or enhanced MLG (10-210 series): Before the accumulation of 252 total months on an MLG bogie beam, or within 90 days after the effective date of this AD, whichever occurs later, do the actions specified in paragraphs (k)(1) and (k)(2) of this AD concurrently and in sequence.

(1) Except as provided by paragraph (k)(3) of this AD: Do a detailed inspection for damage and corrosion of the internal bores of the LH and RH MLG bogie beam, in accordance with the Accomplishment Instructions of Airbus Mandatory Service Bulletin A330-32-3237 or A340-32-4279, both Revision 1, both dated October 14, 2011, as applicable. If any damage or corrosion is found, before further flight, repair in accordance with the Accomplishment Instructions of Airbus Mandatory Service Bulletin A330-32-3237 or A340-32-4279, both Revision 1, both dated October 14, 2011, as applicable.

(2) Except as provided by paragraph (k)(3) of this AD: Modify and re-identify, as applicable, the LH and RH MLG bogie beams, in accordance with the Accomplishment Instructions of Airbus Mandatory Service Bulletin A330-32-3237 or A340-32-4279, both Revision 1, both dated October 14, 2011, as applicable.

(3) The inspection requirements of paragraph (k)(1) of this AD, and the modification requirements only of paragraph (k)(2) of this AD, do not apply to any MLG bogie beam with a serial number listed in Appendix A of Messier-Dowty Service Bulletin A33/34-32-283 or A33/34-32-284, both Revision 1, both dated July 10, 2012, as applicable.

(l) Optional Methods of Compliance for Certain Airplane Configurations

Inspections and corrective actions on both MLG bogie beams done in accordance with the instructions of Messier-Dowty Service Bulletin A33/34-32-271, Revision 1, dated November 16, 2007; or A33/34-32-272, Revision 1, including Appendixes A, B, C, and D, dated September 22, 2008; as applicable; are acceptable methods of compliance for the requirements of paragraph (g) of this AD, provided each inspection is accomplished between 54 months and 72 months since the first flight of the affected MLG bogie beam on an airplane, or since the MLG bogie beam's first flight after the MLG bogie beam's most recent overhaul, as applicable.

(m) Reporting

(1) Submit a report of the findings (both positive and negative) of each inspection required by paragraph (g) or (k) of this AD, as applicable, to Airbus, Customer Service Directorate, 1 Rond Point Maurice Bellonte, 31707 Blagnac Cedex, France, using the applicable reporting sheet in Airbus Mandatory Service Bulletin A330-32-3237, Revision 1, dated October 14, 2011; or Airbus Mandatory Service Bulletin A340-32-4279, Revision 1, dated October 14, 2011; at the applicable time specified in paragraph (m)(1)(i) or (m)(1)(ii) of this AD.

(i) If the inspection was done on or after the effective date of this AD: Submit the report within 90 days after the inspection.

(ii) If the inspection was done before the effective date of this AD: Submit the report within 90 days after the effective date of this AD.

(2) Submit a report of the findings (both positive and negative) of the inspection required by paragraph (h) of this AD to Airbus, Customer Service Directorate, 1 Rond Point Maurice Bellonte, 31707 Blagnac Cedex, France, using the applicable reporting sheet in Airbus Service Bulletin A330-32-3237 or A340-32-4279, both dated January 18, 2011, at the applicable time specified in paragraph (m)(2)(i) or (m)(2)(ii) of this AD.

(i) If the inspection was done on or after the effective date of this AD: Submit the report within 30 days after the inspection.

(ii) If the inspection was done before the effective date of this AD: Submit the report within 30 days after the effective date of this AD.

(n) Optional Method of Compliance

(1) Inspections for damage and corrosion to the protective treatment of the internal bores of the LH and RH MLG bogie beam, and repairs, done in accordance with Messier-Dowty Service Bulletin A33/34-32-278, including Appendixes A and B, Revision 1, dated August 24, 2011, are acceptable methods of compliance with the corresponding requirements of paragraph (k)(1) of this AD.

(2) Modification of the LH and RH MLG bogie beams, done in accordance with Messier-Dowty Service Bulletins A33/34-32-283 and A33/34-32-284, both including Appendix A, both Revision 1, both dated July 10, 2012, as applicable, is an acceptable method of compliance with the corresponding requirements of paragraph (k)(2) of this AD.

(o) Optional Terminating Action

Modification of both LH and RH MLG bogie beams on an airplane, done in accordance with paragraph (k) of this AD, or as specified in paragraphs (n)(1) and (n)(2) of this AD, terminates the repetitive inspections required by paragraph (g) of this AD for this airplane.

(p) Credit for Previous Actions

(1) This paragraph provides credit for the corresponding inspections and corrective actions done on an LH or RH MLG bogie beam required by paragraph (g) of this AD, if those actions were performed before the effective date of this AD using Airbus Mandatory Service Bulletin A330-32-3225, dated November 21, 2007; or Revision 1, dated October 30, 2008; provided the inspections and corrective actions were accomplished between 54 months and 72 months since first flight of the affected MLG bogie beam on an airplane, or since its first flight after the MLG bogie beam's most recent overhaul, as applicable. Airbus Mandatory Service Bulletin A330-32-3225, dated November 21, 2007, is not incorporated by reference in this AD. Airbus Mandatory Service Bulletin A330-32-3225, Revision 1, dated October 30, 2008, was incorporated by reference in AD 2009-15-07, Amendment 39-15980 (74 FR 37523, July 29, 2009).

(2) This paragraph provides credit for the corresponding inspections and corrective actions done on an LH or RH MLG bogie beam required by paragraph (g) of this AD, if those actions were performed before the effective date of this AD using Airbus Mandatory Service Bulletin A340-32-4268, dated November 21, 2007; Revision 1, dated October 30, 2008; or Revision 2, dated October 26, 2012; provided these inspections and corrective actions were accomplished between 54 months and 72 months since first flight of the affected MLG bogie beam on an airplane, or since its first flight after the MLG bogie beam's most recent overhaul, as applicable. Airbus Mandatory Service Bulletin A340-32-4268, dated November 21, 2007; and Revision 2, dated October 26, 2012; are not incorporated by reference in this AD. Airbus Mandatory Service Bulletin A340-32-4268, Revision 1, dated October 30, 2008, was incorporated by reference in AD 2009-15-17, Amendment 39-15980 (74 FR 37523, July 29, 2009).

(3) This paragraph provides credit for the corresponding actions required by paragraph (n)(1) of this AD, if those actions were performed before the effective date of this AD using Messier-Dowty Service Bulletin A33/34-32-271, dated September 13, 2007, which is not incorporated by reference in this AD.

(4) This paragraph provides credit for the corresponding actions required by paragraphs (j) and (n)(1) of this AD, if those actions were performed before the effective date of this AD using Messier-Dowty Service Bulletin A33/34-32-272, including Appendixes A, B, C, and D, dated November 16, 2007, which is not incorporated by reference in this AD.

(5) This paragraph provides credit for the corresponding actions required by paragraphs (k), (m), and (r)(1)(i) of this AD, if those actions were performed before the effective date of this AD using Airbus Mandatory Service Bulletin A330-32-3237, dated January 18, 2011, which is not incorporated by reference in this AD.

(6) This paragraph provides credit for the corresponding actions required by paragraphs (k), (m), and (r)(1)(i) of this AD, if those actions were performed before the effective date of this AD using Airbus Mandatory Service Bulletin A340-32-4279, dated January 18, 2011, which is not incorporated by reference in this AD.

(7) This paragraph provides credit for the corresponding actions required by paragraphs (k)(3), (n)(2), (r)(1)(ii), and (r)(1)(iii) of this AD, if those actions were performed before the effective date of this AD using Messier-Dowty Service Bulletin A33/34-32-283, including Appendix A, dated May 11, 2010, which is not incorporated by reference in this AD.

(8) This paragraph provides credit for the corresponding actions required by paragraphs (k)(3), (n)(2), (r)(1)(ii), and (r)(1)(iii) of this AD, if those actions were performed before the effective date of this AD using Messier-Dowty Service Bulletin A33/34-32-284, including Appendix A, dated May 11, 2010, which is not incorporated by reference in this AD.

(9) This paragraph provides credit for the corresponding actions required by paragraphs (n)(1) and (r)(1)(ii) of this AD, if those actions were performed before the effective date of this AD using Messier-Dowty Service Bulletin A33/34-32-278, including Appendixes A and B, dated February 17, 2010, which is not incorporated by reference in this AD.

(q) Clarification of Inspection Compliance Times

After accomplishment of the one-time detailed inspection required by paragraph (h) of this AD, the repetitive actions required by paragraph (g) of this AD remain applicable, and must be done within the compliance times specified in paragraph (g) of this AD.

(r) Parts Installation Limitations

(1) After modification of an airplane, as required by paragraph (k) of this AD, or as specified in paragraphs (n)(1) and (n)(2) of this AD, do not install an MLG bogie beam on any airplane unless it is done in compliance with the requirements of paragraph (r)(1)(i), (r)(1)(ii), or (r)(1)(iii) of this AD.

(i) The MLG bogie beam has been modified and re-identified in accordance with the Accomplishment Instructions of Airbus Mandatory Service Bulletin A330-32-3237 or A340-32-4279, both Revision 1, both dated October 14, 2011, as applicable.

(ii) The MLG bogie beam has been inspected and all applicable corrective actions have been done in accordance with the Accomplishment Instructions of Messier-Dowty Service Bulletin A33/34-32-278, Revision 1, dated August 24, 2011; and modified in accordance with the Accomplishment Instructions of Messier-Dowty Service Bulletin A33/34-32-283 or A33/34-32-284, both Revision 1, both dated July 10, 2012.

(iii) The MLG bogie beam has a serial number listed in Appendix A of Messier-Dowty Service Bulletin A33/34-32-283 or A33/34-32-284, both Revision 1, both dated July 10, 2012.

(2) As of the effective date of this AD, except as specified in paragraph (r)(1) of this AD, installation of an MLG bogie beam on an airplane is allowed, provided that following the installation it is inspected and all applicable repairs and corrective actions have been done in accordance with the requirements of this AD.

(s) Related Information

(1) Refer to Mandatory Continuing Airworthiness Information (MCAI) European Aviation Safety Agency (EASA) AD 2013-0267R1, dated March 4, 2014, corrected March 8, 2014, for related information. This MCAI may be found in the AD docket on the Internet at http://www.regulations.gov by searching for and locating Docket No. FAA-2013-0828.

(2) For Airbus service information identified in this AD, contact Airbus SAS, Airworthiness Office—EAL, 1 Rond Point Maurice Bellonte, 31707 Blagnac Cedex, France; telephone: +33 5 61 93 36 96; fax: +33 5 61 93 45 80; email: airworthiness.A330-A340@airbus.com; Internet http://www.airbus.com.

(3) For Messier-Dowty service information identified in this AD, contact Messier-Dowty: Messier Services Americas, Customer Support Center, 45360 Severn Way, Sterling, VA 20166-8910; telephone 703-450-8233; fax 703-404-1621; Internet https://techpubs.services/messier-dowty.com.

(4) You may view this service information at the FAA, Transport Airplane Directorate, 1601 Lind Avenue SW., Renton, WA. For information on the availability of this material at the FAA, call 425-227-1221.

Issued in Renton, Washington, on January 27, 2016.
Michael Kaszycki,
Acting Manager, Transport Airplane Directorate, Aircraft Certification Service.

[FR Doc. 2016-02161 Filed 2-4-16; 8:45 am]

BILLING CODE 4910-13-P